EXPORT-IMPORT BANK

Notice of Meeting of Advisory Committee

ACTION: Notice of Open Meeting of the Advisory Committee of the Export-Import Bank of the United States (Ex-Im Bank).

TIME AND PLACE: Wednesday, September 18, 2013 from 11:00 a.m. to 2:30 p.m. The meeting will be held at the Export-Import Bank in Room 326, 811 Vermont Avenue NW., Washington, DC 20571.

SUMMARY: The Advisory Committee was established November 30, 1983, to advise the Export-Import Bank on its programs and to provide comments for inclusion in the reports of the Export-Import Bank of the United States to Congress.

Agenda: Agenda items include briefings and discussions on the following topics: Ex-Im Bank business update and subcommittee reports.

Public Participation: The meeting will be open to public participation, and the last 10 minutes will be set aside for oral questions or comments. Members of the public may also file written statement(s) before or after the meeting. If members of the public wish to attend, they must contact Niki Shepperd via email at niki.shepperd@exim.gov by 5 p.m. on September 17, 2013. If any person wishes auxiliary aids (such as a sign language interpreter) or other special accommodations, please contact, by September 16, 2013, Niki Shepperd.

FOR FURTHER INFORMATION CONTACT: For further information, contact Niki Shepperd, 811 Vermont Ave. NW., Washington, DC 20571, (202) 565-3202 or TDD (202) 565-3377 or niki.shepperd@exim.gov.

Cristopolis A. Dieguez,
Program Specialist, Office of General Counsel.

[FR Doc. 2013-21163 Filed 8-29-13; 8:45 am]

BILLING CODE 6690-01-P